DEPARTMENT OF AGRICULTURE

Submission for OMB Review; Comment Request

August 8, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Representations for CCC and FSA Loans and Authorization to File a Financing Statement and Related Documents.

OMB Control Number: 0560-0215.

Summary of Collection: Commodity Credit Corporation and the Farm Service Agency (FSA) programs require loans be secured with collateral. The security interest is created and attaches to the collateral when: (1) Value has been given, (2) the debtor has rights in the collateral or the power to transfer rights in the collateral, and (3) the debtor has authenticated a security agreement that provides a description of the collateral. In order to perfect the security interest in collateral, a financing statement must be filed according to a State's Uniform Commercial Code. The revised Article 9 of the Uniform Commercial Code deals with secured transaction for personal property. The revised Article 9 affects the manner in which the CCC and FSA, as well as any other creditor, perfect and liquidate security interests in collateral.

Need and Use of the Information: FSA will collect information using form CCC-10. The information obtained on CCC-10 is needed to not only obtain authorization from loan applicants to file a financing statement without their signature, but also to verify the exact legal name and location of the debtor. If this information is not collected, CCC and FSA will not be able to disburse loans because a security interest would not be perfected.

Description of Respondents: Farms; Individuals or households.

Number of Respondents: 55,500.

Frequency of Responses: Reporting; On occasion.

Total Burden Hours: 32,357.

Farm Service Agency

Title: County Committee Election.

OMB Control Number: 0560-0229.

Summary of Collection: As specified in the 2002 Farm Bill, the Secretary is required to prepare a report of election that includes, among other things, “the race, ethnicity and gender of each nominee, as provided through the voluntary self-identification of each nominee”. The information will be collected using form FSA-669-A, “Nomination Form for County FSA Committee Election”. Completion of the form is voluntary.

Need and Use of the Information: FSA will collect information on race, ethnicity and gender of each nominee as provided through the voluntary self-identification of each nominee agreeing to run for a position. The information will be sent to Kansas City for preparation of the upcoming election. The Secretary will review the information annually. If the information is not collected in any given year, the Secretary would not be able to prepare the report as required by the regulations.

Description of Respondents: Individuals or households.

Number of Respondents: 10,000 .

Frequency of Responses: Reporting: Annually.

Total Burden Hours: 6,700.

Farm Service Agency

Title: Volunteer Programs.

OMB Control Number: 0560-0232.

Summary of Collection: Section 1526 of the Food and Agriculture Act of 1981 (7 U.S.C. 2272) permits the Secretary of Agriculture to establish a program to use volunteers to perform a wide range of activities to carry out the programs of or supported by the Department of Agriculture. 5 U.S.C. 3111 grants agencies the authority to establish program designed to provide educationally related work assignments for students in non-pay status. Documentation of service performed without compensation by persons who do not receive Federal appointment is required by Office of Personnel Management (OPM). While serving as a Farm and Foreign Agriculture Service volunteer each individual is subject to the same responsibilities and guidelines for conduct to which Federal employees are expected to adhere. These program(s) will provide a valuable service to the agencies while allowing the participants to receive training, supervision and work experience.

Need and Use of the Information: Applicant accepted for the Volunteer Programs will complete the “Service Agreement and Attendance Record”. The Agency will use the recording information to respond to the Department of Agriculture and OPM request for information on Agency Volunteers. Without the information, the Farm Service Agency would be unable to document service performed without compensation by persons in the program.

Description of Respondents: Individuals or households.

Number of Respondents: 60.

Frequency of Responses: Reporting: Annually.

Total Burden Hours: 30.

Farm Service Agency

Title: Transfer of Farm Records Between Counties.

OMB Control Number: 0560-0253.

Summary of Collection: Most Farm Service Agency (FSA) programs are administered on the basis of “farm”. For program purposes, a farm is a collection of tracts of land that have the same owner and the same operator. Land with different owners may be considered to be a farm if all the land is operated by one person and additional criteria are met. A farm is typically administered in the FSA county office where the farm is physically located. A farm transfer can be initiated if the farm is being transferred back to the county where the farm is physically located, the principal dwelling on the farm operator has changed, a change has occurred in the operation of the land, or there has been a change that would cause the receiving administrative county to be more accessible. Form FSA-179, “Transfer of Farm Record Between Counties,” is used as the request for a farm transfer from one county to another initiated by the producer.

Need and Use of the Information: The information collected on the FSA-179 is collected only if a farm transfer is being requested and is collected in a face-to-face setting with county office personnel. The information is used by county office employees to document which farm is being transferred, what county it is being transferred to, and why it is being transferred. Without the information county offices will be unable to determine whether the producer desires to transfer a farm.

Description of Respondents: Farms.

Number of Respondents: 23,000.

Frequency of Responses: Reporting: On occasion.

Total Burden Hours: 26,833.

Ruth Brown,
Departmental Information Collection Clearance Officer.

[FR Doc. 2011-20488 Filed 8-11-11; 8:45 am]

BILLING CODE 3410-05-P